DEPARTMENT OF ENERGY

Federal Energy Regulatory Commission

Combined Notice of Filings #1

Take notice that the Commission received the following electric rate filings:

Docket Numbers: ER12-1627-001.

Applicants: ISO New England Inc.

Description: Compliance Filing: Docket No. ER12-1627-000 to be effective N/A.

Filed Date: 3/15/13.

Accession Number: 20130315-5123.

Comments Due: 5 p.m. ET 4/5/13.

Docket Numbers: ER13-645-001.

Applicants: Public Service Company of Colorado.

Description: 2013-03-15-NSP-BLMR-Tran-to Load-544 to be effective 1/1/2013.

Filed Date: 3/15/13.

Accession Number: 20130315-5121.

Comments Due: 5 p.m. ET 4/5/13.

Docket Numbers: ER13-655-001.

Applicants: Public Service Company of Colorado.

Description: 2013-03-15-NSP-CRNLL-Tran-to Load-546 to be effective 1/1/2013.

Filed Date: 3/15/13.

Accession Number: 20130315-5104.

Comments Due: 5 p.m. ET 4/5/13.

Docket Numbers: ER13-1110-000.

Applicants: PJM Interconnection, L.L.C.

Description: Cancellation of PJM Service Agreement Nos. 2861, 2986, 3145 and 3164 to be effective 2/13/2013.

Filed Date: 3/15/13.

Accession Number: 20130315-5103.

Comments Due: 5 p.m. ET 4/5/13.

Docket Numbers: ER13-1111-000.

Applicants: New England Power Company.

Description: Serv Agmt TSA-NEP-85 effective April 9, 2012—Notice Requirement Waiver Request to be effective 3/15/2013.

Filed Date: 3/15/13.

Accession Number: 20130315-5128.

Comments Due: 5 p.m. ET 4/5/13.

Docket Numbers: ER13-1112-000.

Applicants: Westar Energy, Inc.

Description: Notice of Cancellation of RS FERC No. 236 with the City of Eudora, Kansas to be effective 6/1/2013.

Filed Date: 3/15/13.

Accession Number: 20130315-5140.

Comments Due: 5 p.m. ET 4/5/13.

Docket Numbers: ER13-1113-000.

Applicants: PJM Interconnection, L.L.C.

Description: Ministerial revision to OATT Sch 7 replacing No. “6” in footnote—Eff 9/17/2010 to be effective 9/17/2010.

Filed Date: 3/15/13.

Accession Number: 20130315-5144.

Comments Due: 5 p.m. ET 4/5/13.

Docket Numbers: ER13-1113-001.

Applicants: PJM Interconnection, L.L.C.

Description: Ministerial revision to OATT Sch 7 replacing No. “6” in footnote—Eff 1/1/2011 to be effective 1/1/2011.

Filed Date: 3/15/13.

Accession Number: 20130315-5146.

Comments Due: 5 p.m. ET 4/5/13.

Docket Numbers: ER13-1114-000.

Applicants: Wisconsin Electric Power Company.

Description: Notice of Cancellation of Wisconsin Electric Power Company.

Filed Date: 3/15/13.

Accession Number: 20130315-5147.

Comments Due: 5 p.m. ET 4/5/13.

Docket Numbers: ER13-1115-000.

Applicants: FirstEnergy Solutions Corp.

Description: Application of FirstEnergy Solutions Corp. for authorization to sell electricity to Potomac Edison Company, an affiliate.

Filed Date: 3/15/13.

Accession Number: 20130315-5148.

Comments Due: 5 p.m. ET 4/5/13.

Docket Numbers: ER13-1116-000.

Applicants: FirstEnergy Solutions Corp.

Description: Application of FirstEnergy Solutions Corp. for authorization to sell electricity to West Penn Power Company, an affiliate.

Filed Date: 3/15/13.

Accession Number: 20130315-5149.

Comments Due: 5 p.m. ET 4/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2013.
Nathaniel J. Davis, Sr.,
Deputy Secretary.

[FR Doc. 2013-06708 Filed 3-22-13; 8:45 am]

BILLING CODE 6717-01-P